NUCLEAR REGULATORY COMMISSION

[Docket Nos. 50-309-OM & 72-30-OM; ASLBP No. 03-806-01-OM]

Maine Yankee Atomic Power Company, Maine Yankee Atomic Power Station; Establishment of Atomic Safety and Licensing Board

Pursuant to delegation by the Commission dated December 29, 1972, published in the Federal Register, 37 FR 28710 (1972), and sections 2.105, 2.700, 2.702, 2.714, 2.714a, 2.717, 2.721, and 2.772(j) of the Commission's Regulations, all as amended, an Atomic Safety and Licensing Board is being established to preside over the following proceeding:

Maine Yankee Atomic Power Company, Maine Yankee Atomic Power Station.

This Board is being established pursuant to a November 15, 2002, petition to intervene and request for hearing submitted by the State of Maine. The petition was filed in response to an NRC staff “Order Modifying Licenses (Effective Immediately)” published in the Federal Register (67 FR 65150 (October 23, 2002)). The order requires licensees who currently store, or who have near-term plans to store, spent nuclear fuel in an independent spent fuel storage installation to maintain the security procedures specified in attachment 2 to the order.

The Board is comprised of the following administrative judges:

Ann M. Young, Chair, Atomic Safety and Licensing Board Panel, U.S. Nuclear Regulatory Commission, Washington, DC 20555-0001.

Richard F. Cole, Atomic Safety and Licensing Board Panel, U.S. Nuclear Regulatory Commission, Washington, DC 20555-0001.

Thomas D. Murphy, Atomic Safety and Licensing Board Panel, U.S. Nuclear Regulatory Commission, Washington, DC 20555-0001.

All correspondence, documents, and other materials shall be filed with the administrative judges in accordance with 10 CFR 2.701.

Issued in Rockville, Maryland, this 3rd day of December, 2002.
G. Paul Bollwerk, III,
Chief Administrative Judge, Atomic Safety and Licensing Board Panel.

[FR Doc. 02-31003 Filed 12-6-02; 8:45 am]

BILLING CODE 7590-01-P